DEPARTMENT OF COMMERCE

National Oceanic and Atmospheric Administration

RIN 0648-XC880

Western Pacific Fishery Management Council; Public Meetings

AGENCY: National Marine Fisheries Service (NMFS), National Oceanic and Atmospheric Administration (NOAA), Commerce.

ACTION: Notice of public meetings.

SUMMARY: The Western Pacific Fishery Management Council (Council) will hold meetings of its 114th Scientific and Statistical Committee (SSC), Hawaii Archipelago/Pacific Remote Island Areas (PRIA) Standing Committee, Mariana Archipelago Standing Committee, American Samoa Archipelago Standing Committee, Fishery Rights of Indigenous People Standing Committee, Enforcement and Vessel Monitoring System (VMS) Standing Committee, Program Planning and Research Standing Committee, Pelagic and International/Protected Species Standing Committee, Executive and Budget Standing Committee, and 158th Council to take actions on fishery management issues in the Western Pacific Region.

DATES: The meetings will be held from October 8 through October 10, 2013 and October 15 through October 18, 2013. For specific dates, times and agendas, see SUPPLEMENTARY INFORMATION.

ADDRESSES: The SSC, Hawaii Archipelago/PRIA Standing Committee, Mariana Archipelago Standing Committee, American Samoa Archipelago Standing Committee, Fishery Rights of Indigenous People Standing Committee, Enforcement and VMS Standing Committee, Program Planning and Research Standing Committee, Pelagic and International/Protected Species Standing Committee, and Executive and Budget Standing Committee meetings will be held at the Council Office, 1164 Bishop Street, Suite 1400, Honolulu, HI 96813, telephone: (808) 522-8220. The 158th Council meeting will be held at the Laniakea YWCA-Fuller Hall, 1040 Richards Street, Honolulu, HI 96813, telephone: (808) 538-7061. The Fishers Forum will be held at the Harbor View Center, Pier 38, 1129 North Nimitz Highway, Honolulu, HI 96817, telephone: (808) 983-1200.

FOR FURTHER INFORMATION CONTACT: Kitty M. Simonds, Executive Director; telephone: (808) 522-8220.

SUPPLEMENTARY INFORMATION: The SSC will meet from October 8 to October 10 between 8:30 a.m. and 5 p.m.; the Hawaii Archipelago/PRIA Standing Committee, Mariana Archipelago Standing Committee and American Samoa Archipelago Standing Committee meetings will be held between 8 a.m. and 10 a.m. on October 15, 2013; the Fishery Rights of Indigenous People Standing Committee and Enforcement and VMS Standing Committee will be held between 10 a.m. and 12 noon on October 15, 2013; the Program Planning and Research Standing Committee will be held between 12:30 p.m. and 2:30 p.m. on October 15, 2013; the Pelagic and International/Protected Species Standing Committee will be held between 2:30 p.m. and 5 p.m. on October 15, 2013; the Executive and Budget Standing Committee will be held between 5 p.m. and 6 p.m. on October 15, 2013; and the 158th Council meeting will be held between 8:30 a.m. and 5:30 p.m. on October 16, 2013, between 8:30 a.m. and 5 p.m. on October 17, 2013, and between 8:30 a.m. and 5 p.m. on October 18, 2013. A Fishers Forum will be held in association with the 158th Council Meeting between 6 and 9 p.m. on October 17, 2013. All meetings will be held in Honolulu, HI.

In addition to the agenda items listed here, the Council will hear recommendations from Council advisory groups. Public comment periods will be provided throughout the agendas. The order in which agenda items are addressed may change. The meetings will run as late as necessary to complete scheduled business.

Schedule and Agenda for 114th SSC Meeting

8:30 a.m.-5 p.m. Tuesday, October 8, 2013

1. Introductions

2. Approval of Draft Agenda and Assignment of Rapporteurs

3. Status of the 113th SSC Meeting Recommendations

4. Report from the Pacific Islands Fisheries Science Center (PIFSC) Director

5. Remarks from the New NMFS Senior Scientist for Ecosystem Research

6. Insular Fisheries

A. Report on the Main Hawaiian Islands (MHI) Bottomfish Research Working Group Outcomes

B. Guam Coral Reef Fish Productivity Susceptibility Analysis

C. Hawaii Parrotfish Stock Assessment

D. American Samoa Reports

1. Report on National Marine Sanctuary of American Samoa Long-term Monitoring Project

2. Crown-of-Thorns Eradication Project

3. Coral Reef Monitoring Program Final Report

E. Public Comment

F. SSC Discussion and Recommendations

7. Program Planning

A. Estimated Maximum Sustainable Yield (MSY) for Data Poor Stocks Based on Modified Catch-MSY Model

B. Evaluating the Need to Amend the Acceptable Biological Catch (ABC) and Annual Catch Limit (ACL) Control Rules

C. Revision and Re-prioritization of the Western Pacific Regional Fishery Management Council (WPRFMC) 5-Year Research Priorities

D. Pacific Island Fisheries Research Program

E. Report on the Fisheries Data Clients Meeting

F. SSC Allocation Working Group

G. NMFS Cooperative Research Proposal

H. Public Comment

I. SSC Discussion and Recommendations

8:30 a.m.-5 p.m. Wednesday, October 9, 2013

8. Pelagic Fisheries

A. International Fisheries Meetings

1. 9th Western and Central Pacific Fisheries Commission (WCPFC) Science Committee

2. WCPFC Working Group on Tropical Tunas

3. WCPFC Northern Committee

4. WCPFC Technical and Compliance Committee

B. SSC Evaluation of Tropical Tuna Management Measures

C. Mariana Archipelago Shark Fishery Management

D. Workshop on Ecosystem Approaches to Pelagic Fisheries Management

E. Marianas Skipjack Resource Assessment

F. American Samoa and Hawaii Longline Quarterly Reports

G. Effects from Fish Aggregation Devices (FADs) on Fish Migrations

H. Public Comment

I. SSC Discussion and Recommendations

9. Protected Species

A. NMFS PIFSC Kona Integrated Ecosystem Assessment Survey

B. Leatherback Turtle Bycatch Analysis

C. Deep-Set Longline Fishery Endangered Species Act (ESA) Section 7 Consultation

D. Updates on ESA and Marine Mammal Protection Act (MMPA) Actions

1. Proposed Rule to List 66 Species of Coral as Endangered or Threatened under the ESA

2. Green Turtle Status Review

3. North Pacific Humpback Whale Petition

4. Proposed Rule on ESA Incidental Take Statement Regulations

5. Proposed 2014 List of Fisheries

E. Draft 2013 Marine Mammal Stock Assessment Reports

F. False Killer Whale Take Reduction Plan Research Priorities

G. Workshop on Marine Mammal Stock Assessment Issues

H. Public Comment

I. SSC Discussion and Recommendations

8:30 a.m.-5 p.m. Thursday, October 10, 2013

10. Other Business

A. 115th SSC Meeting

11. Summary of SSC Recommendations to the Council

Schedule for Standing Committee Meetings

8 a.m.-10 a.m. Tuesday, October 15, 2013

Hawaii Archipelago/PRIA Standing Committee

Mariana Archipelago Standing Committee

American Samoa Archipelago Standing Committee

10 a.m.-12 noon Tuesday, October 15, 2013

Fishery Rights of Indigenous People Standing Committee

Enforcement and VMS Standing Committee

12:30 p.m.-2:30 p.m. Tuesday, October 15, 2013

Program Planning and Research Standing Committee

2:30 p.m.-5 p.m. Tuesday, October 15, 2013

Pelagic and International/Protected Species Standing Committee

5 p.m.-6 p.m. Tuesday, October 15, 2013

Executive & Budget Standing Committee

Schedule and Agenda for 158th Council Meeting

8:30 a.m.-5:30 p.m. Wednesday, October 16, 2013

1. Welcome and Introductions

2. Approval of the 158th Agenda

3. Approval of the 157th Meeting Minutes

4. Executive Director's Report

5. Agency Reports

A. National Marine Fisheries Service (NMFS)

1. Pacific Islands Regional Office (PIRO)

2. Pacific Islands Fisheries Science Center (PIFSC)

B. NOAA Office of General Council, Pacific Islands Report

C. U.S. Fish and Wildlife Service

1. Sport Fish Restoration Program

D. Enforcement

1. U.S. Coast Guard

2. NMFS Office for Law Enforcement

3. NOAA General Counsel for Enforcement and Litigation

E. Public Comment

F. Council Discussion and Action

6. Hawaii Archipelago and PRIA

A. Moku Pepa

B. Department of Land and Natural Resources (DLNR) Report

1. Enforcement—Cooperative Enforcement

2. New Regulations per Chapter 91 Rule Making

C. Community Projects, Activities and Issues

1. Community Development Program Multi-fishery Proposal

2. Report on Aha Moku Projects

D. Big Ocean—Network of Large Scale Marine Managed Areas

E. Hawaii Outreach Activities

F. Report on MHI Bottomfish Working Group

G. SSC Recommendations

H. Standing Committee Recommendations

I. Public Comment

J. Council Discussion and Action

7. Pelagic & International Fisheries

A. International Fisheries Meetings

1. 9th WCPFC Science Committee

2. WCPFC Working Group on Tropical Tunas

3. WCPFC Northern Committee

4. WCPFC Technical & Compliance Committee

B. SSC Evaluation of Tropical Tuna Management Measures

C. Mariana Archipelago Shark Fishery Management

D. Workshop on Ecosystem Approaches to Pelagic Fisheries Management

E. American Samoa and Hawaii Longline Quarterly Reports

F. Effects from FADs on Fish Migrations

G. SSC Recommendations

H. Standing Committee Recommendations

I. Public Comment

J. Council Discussion and Action

8. Public Comment on Non-Agenda Items

8:30 a.m.-5 p.m. Thursday, October 17, 2013

9. Protected Species

A. NMFS PIFSC Kona Integrated Ecosystem Assessment Survey

B. Leatherback Turtle Bycatch Analysis

C. Deep-Set Longline Fishery ESA Section 7 Consultation

D. Updates on ESA and MMPA Actions

1. Proposed Rule To List 66 Species of Coral as Endangered or Threatened Under the ESA

2. Green Turtle Status Review

3. North Pacific Humpback Whale Petition

4. Proposed 2014 List of Fisheries

5. Proposed Rule on ESA Incidental Take Statement Regulations

E. False Killer Whale Take Reduction Plan Research Priorities

F. Workshop on Marine Mammal Stock Assessment Issues

G. Update on the Council Coordination Committee/Marine Fisheries Advisory Committee ESA Working Group

H. SSC Recommendations

I. Standing Committee Recommendations

J. Public Comment

K. Council Discussion and Action

10. Program Planning and Research

A. Estimated MSY for Data Poor Stocks Based on Modified

Catch-MSY Model

B. Evaluating the Need To Amend the ABC and ACL Control Rules

C. Council Coral Reef Ecosystem Program and Proposal

D. Revision and Re-Prioritization of the WPRFMC 5-Year Research Priorities

E. Update on Pacific Islands Regional Planning Body

F. Non-commercial Fisheries Update

G. National and International Education and Outreach

H. Ad-Hoc Education Committee Meeting Report

I. Marine Planning and Climate Change Committee Meeting Report

J. Non-Commercial Fisheries Advisory Committee Meeting Report

K. Fisheries Data Client Meeting Report

L. NMFS Cooperative Research Proposal

M. National Standard 1

N. Update on Magnuson-Stevens Act Reauthorization

O. SSC Allocation Working Group

P. SSC Recommendations

Q. Standing Committee Recommendations

R. Public Comment

S. Council Discussion and Action

6 p.m.-9 p.m. Thursday, October 17, 2013

Fishers Forum

8:30 a.m.-5 p.m. Friday, October 18, 2013

11. Mariana Archipelago

A. Island Reports

1. Arongo Flaeey

2. Isla Informe

B. Legislative Report

1. Commonwealth of the Northern Mariana Islands (CNMI)

2. Guam

C. Enforcement Issues

1. CNMI

2. Guam

D. Community Development and Issues

1. Merizo Community Resource Planning

2. Guam Community Development Projects Status Report

3. Military Build-Up Activities

a. Tinian

b. Northern Islands

E. Education and Outreach Initiatives

1. CNMI

2. Guam

F. Marianas Skipjack Resource Assessment

G. CNMI Regional Ecosystem Advisory Committee Report

H. SSC Recommendations

I. Standing Committee Recommendations

J. Public Comment

K. Council Discussion and Action

12. American Samoa Archipelago

A. Motu Lipoti

B. Fono Report

C. Enforcement Issues

D. Community Activities and Issues

1. Update on Community Fisheries Development

E. Forum Fisheries Agency Sub-Regional Satellite Fisheries Office

F. Report on National Marine Sanctuary of American Samoa Long-term Monitoring Project

G. Crown of Thorns Eradication Project

H. Coral Reef Monitoring Program Final Report

I. Education and Outreach Initiatives

J. SSC Recommendations

K. Standing Committee Recommendations

L. Public Comments

M. Council Discussion and Action

13. Administrative Matters

A. Financial Reports

B. Administrative Reports

C. Regional Operating Agreement With NMFS Region

D. 5-Year Program Plan

E. Council Family Changes

1. Advisory Panel Changes and Restructuring

2. Standing Committee Modifications

F. Meetings and Workshops

G. Council Member Rules of Conduct Training

H. Other Business

I. Standing Committee Recommendations

J. Public Comment

K. Council Discussion and Action

14. Election of Officers

15. Other Business

Non-Emergency issues not contained in this agenda may come before the Council for discussion and formal Council action during its 158th meeting. However, Council action on regulatory issues will be restricted to those issues specifically listed in this document and any regulatory issue arising after publication of this document that requires emergency action under section 305(c) of the Magnuson-Stevens Act, provided the public has been notified of the Council's intent to take action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: September 17, 2013.
Tracey L. Thompson,
Acting Deputy Director, Office of Sustainable Fisheries, National Marine Fisheries Service.

[FR Doc. 2013-22932 Filed 9-19-13; 8:45 am]

BILLING CODE 3510-22-P